DEPARTMENT OF TRANSPORTATION

Pipeline and Hazardous Materials Safety Administration

Office of Hazardous Materials Safety; Notice of Application for Special Permits

AGENCY: Pipeline and Hazardous Materials Safety Administration (PHMSA), DOT.

ACTION: List of applications for special permits.

SUMMARY: In accordance with the procedures governing the application for, and the processing of, special permits from the Department of Transportation's Hazardous Material Regulations (49 CFR part 107, Subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before June 15, 2009.

Address Comments to: Record Center, Pipeline and Hazardous Materials Safety Administration, U.S. Department of Transportation, Washington, DC 20590.

Comments should refer to the application number and be submitted in triplicate. If confirmation of receipt of comments is desired, include a self-addressed stamped postcard showing the special permit number.

For Further Information: Copies of the applications are available for inspection in the Records Center, East Building, PHH-30, 1200 New Jersey Avenue Southeast, Washington DC or at http://fdms.gov.

This notice of receipt of applications for special permit is published in accordance with Part 107 of the Federal hazardous materials transportation law (49 U.S.C. 5117(b); 49 CFR 1.53(b)).

Issued in Washington, DC, on May 8, 2009.
Delmer F. Billings,
Director, Office of Hazardous Materials, Special Permits and Approvals.

New Special Permits
Application No. | Docket No. | Applicant | Regulation(s) affected | Nature of special permits thereof
14838-N |  | Autoliv ASP, Inc., Ogden, UT | 49 CFR 172.320, 173.56 and 173.62 | To authorize the transportation in commerce of Class 1 explosives in a specially designed packaging as Division 1.3C or 1.4C for materials and devices respectively without being first examined as required by § 173.56 for transportation by motor vehicle. (mode 1).
14839-N |  | Matheson Tri-Gas Inc., Basking Ridge, NJ | 49 CFR, 180.209 | To authorize the transportation in commerce of certain DOT Specification 3A and 3AA cylinders containing Division 2.2 gases that have tested every 15 years instead of every 10 years. (modes 1, 2, 3, 4, 5).
14841-N |  | Innophos, Inc., Nashville, TN | 49 CFR, 177.834(i)(3) | To authorize the use of video cameras and monitors to observe the loading and unloading operations meeting the definition of “loading incidental to movement” or “unloading incidental to movement” as those terms are defined in § 171.8 of the Hazardous Materials Regulations from a remote control station in place of personnel remaining within 25 feet of the cargo tank motor vehicles. (mode 1).
14842-N |  | American Spraytech, North Branch, NJ | 49 CFR, 173.306(a)(3)(v) | To authorize the transportation in commerce of certain aerosols containing a Division 2.2 compressed gas in certain non-refillable aerosol containers which are not subject to the hot water bath test. (mode 1).
14843-N |  | Mercotac, Inc., Carlsbad, CA | 49 CFR, 173.162(c) and 172.200 | To authorize the transportation of gallium containing in a manufactured article in alternative packaging, and without shipping papers unless transported by air. (modes 1, 2, 4, 5).
14844-N |  | Northern Air Cargo, Anchorage, AK | 49 CFR, 173.302(f) | To authorize the transportation in commerce of cylinders of compressed oxygen and oxidizing gases without rigid outer packaging when no other means of transportation exist. (modes 4, 5).
14847-N |  | PPG Industries, Inc., Monroeville, PA | 49 CFR, 179.15(e) | To authorize the transportation in commerce of certain DOT 105J500W tank cars containing chlorine with a higher start-to-discharge pressure setting than is currently authorized. (mode 2).
14848-N |  | Corning Incorporated, Corning, NY | 49 CFR, 177.834(h) | To authorize the discharge of a Division 2.1 material from an authorized DOT specification cylinder without removing the cylinder from the vehicle on which it is transported. (mode 1).
14849-N |  | Rechargeable Battery Recycling Corporation, Atlanta, GA | 49 CFR, 172.200, 172.300, 172.400 | To authorize the transportation in commerce of certain lithium batteries without shipping papers, marking or labeling, when transported for disposal. (mode 1).
14851-N |  | Alaska Air Group, Inc., Seattle, WA | 49 CFR, 175.8 | To authorize the carriage and use of up to two cans of aerosol whipped cream in the passenger cabin of an aircraft under the exceptions for operator equipment. (mode 5).
14852-N |  | NASA Kennedy Space Center, FL | 49 CFR, 173.304a and 173.226 | To authorize the transportation in commerce of Ammonia, anhydrous and Toxic liquid n.o.s. in alternative packaging contained in the Protein Diagnostics Crystallization Facility unit as part of the payload for a shuttle launch. (modes 1, 4).

[FR Doc. E9-11309 Filed 5-14-09; 8:45 am]

BILLING CODE 4909-60-M